DEPARTMENT OF COMMERCE

International Trade Administration

(A-580-839, A-583-833)

Certain Polyester Staple Fiber from the Republic of Korea and Taiwan: Continuation of Antidumping Duty Orders

AGENCY: Import Administration, International Trade Administration, Department of Commerce.

SUMMARY: As a result of the determinations by the Department of Commerce and the International Trade Commission that revocation of the antidumping duty orders certain polyester staple fiber from the Republic of Korea and Taiwan would likely lead to continuation or recurrence of dumping, and material injury to an industry in the United States, the Department is publishing notice of continuation of these antidumping duty orders.

EFFECTIVE DATE: April 3, 2006.

FOR FURTHER INFORMATION CONTACT: Yasmin Bordas or Andrew McAllister, AD/CVD Operations, Office 1, Import Administration, International Trade Administration, U.S. Department of Commerce, 14th Street and Constitution Avenue, NW, Washington DC 20230; telephone (202) 482-3813 or (202) 482-1174, respectively.

SUPPLEMENTARY INFORMATION:

Background

On April 1, 2005, the Department of Commerce (“the Department”) initiated and on March 31, 2005, the International Trade Commission (“the ITC”) instituted sunset reviews of the antidumping duty orders on certain polyester staple fiber (“PSF”) from the Republic of Korea (“Korea”) and Taiwan pursuant to section 751(c) of the Tariff Act of 1930, as amended (“the Act”).¹

¹ See Initiation of Five-Year (“Sunset”) Reviews, 70 FR 16800 (Apr. 1, 2005); and Polyester Staple Fiber From Korea and Taiwan, Investigations Nos. 731-TA-825 and 826 (Review), 70 FR 16522 (Mar. 31, 2005).

As a result of its review, the Department found that revocation of the antidumping duty orders would likely lead to continuation or recurrence of dumping, and notified the ITC of the magnitude of the margins likely to prevail were the orders to be revoked.² On March 7, 2006, the ITC determined pursuant to section 751(c) of the Act, that revocation of the antidumping duty orders on PSF from Korea and Taiwan would likely lead to continuation or recurrence of material injury to an industry in the United States within a reasonably foreseeable time.³

² See Certain Polyester Staple Fiber from the Republic of Korea and Taiwan: Final Results of the Expedited Sunset Reviews of the Antidumping Duty Orders, 70 FR 45368 (Aug. 5, 2005).

³ See Certain Polyester Staple Fiber from Korea and Taiwan, Investigation Nos. 731-TA-825 and 826 (Review), 71 FR 14721 (Mar. 23, 2006).

Scope of the Orders

For the purposes of these orders, the product covered is PSF. PSF is defined as synthetic staple fibers, not carded, combed or otherwise processed for spinning, of polyesters measuring 3.3 decitex (3 denier, inclusive) or more in diameter. This merchandise is cut to lengths varying from one inch (25 mm) to five inches (127 mm). The merchandise subject to these orders may be coated, usually with a silicon or other finish, or not coated. PSF is generally used as stuffing in sleeping bags, mattresses, ski jackets, comforters, cushions, pillows, and furniture. Merchandise of less than 3.3 decitex (less than 3 denier) currently classifiable in the Harmonized Tariff Schedule of the United States (“HTSUS”) at subheading 5503.20.00.20 is specifically excluded from these orders. Also specifically excluded from these orders are polyester staple fibers of 10 to 18 denier that are cut to lengths of 6 to 8 inches (fibers used in the manufacture of carpeting). In addition, low-melt PSF is excluded from these orders. Low-melt PSF is defined as a bi-component fiber with an outer sheath that melts at a significantly lower temperature than its inner core.

The merchandise subject to these orders is currently classifiable in the HTSUS at subheadings 5503.20.00.45 and 5503.20.00.65. Although the HTSUS subheadings are provided for convenience and customs purposes, the written description of the merchandise under the orders is dispositive.

Determination

As a result of the determinations by the Department and the ITC that revocation of these antidumping duty orders would likely lead to continuation or recurrence of dumping, and material injury to an industry in the United States, pursuant to section 751(d)(2) of the Act, the Department hereby orders the continuation of the antidumping duty orders on PSF from Korea and Taiwan.

U.S. Customs and Border Protection will continue to collect antidumping duty cash deposits at the rates in effect at the time of entry for all imports of subject merchandise.

The effective date of continuation of these orders will be the date of publication in the Federal Register of this Notice of Continuation. Pursuant to section 751(c)(2) and 751(c)(6)(A) of the Act, the Department intends to initiate the next five-year reviews of these orders not later than February 2011.

These five-year (sunset) reviews and this notice are in accordance with section 751(c) of the Act, and published pursuant to section 777(i) of the Act.

Dated: March 27, 2006.
David M. Spooner,
Assistant Secretary for Import Administration.

[FR Doc. E6-4782 Filed 3-31-06; 8:45 am]

BILLING CODE 3510-DS-S